NATIONAL ARCHIVES AND RECORDS ADMINISTRATION

Advisory Committee on the Electronic Records Archives (ACERA)

AGENCY: National Archives and Records Administration.

ACTION: Notice of meeting.

SUMMARY: In accordance with the Federal Advisory Committee Act, as amended (5 U.S.C. Appendix 2), the National Archives and Records Administration (NARA) announces a meeting of the Advisory Committee on the Electronic Records Archives (ACERA). The committee serves as a deliberative body to advise the Archivist of the United States, on technical, mission, and service issues related to the Electronic Records Archives (ERA). This includes, but is not limited to, advising and making recommendations to the Archivist on issues related to the development, implementation and use of the ERA system. This meeting will be open to the public. However, due to space limitations and access procedures, the name and telephone number of individuals planning to attend must be submitted to the Electronic Records Archives Program at era.program@nara.gov. This meeting will be recorded for transcription purposes.

DATES: The meeting will be held on April 7-8, 2010 from 9 a.m.-4 p.m.

ADDRESSES: 700 Pennsylvania Avenue, NW., Washington, DC 20408-0001.

FOR FURTHER INFORMATION CONTACT: Martha Morphy, Designated Federal Official, Office of Information Services, National Archives and Records Administration, 8601 Adelphi Road, College Park, Maryland 20740 (301) 837-3670.

SUPPLEMENTARY INFORMATION:

Agenda

• Opening Remarks.

• Approval of Minutes.

• Committee Updates.

• Activities Reports.

• Adjournment.

Dated: March 10, 2010.
Mary Ann Hadyka,
Committee Management Office.

[FR Doc. 2010-5743 Filed 3-15-10; 8:45 am]

BILLING CODE 7515-01-P